FEDERAL COMMUNICATIONS COMMISSION

Deletion of Item From May 9, 2019 Open Meeting

May 8, 2019.

The following item has been adopted by the Commission and deleted from the list of items scheduled for consideration at the Thursday, May 9, 2019, Open Meeting. The item was previously listed in the Commission's Notice of Thursday, May 2, 2019.

Item No. | Bureau | Subject
5 | OFFICE OF MANAGING DIRECTOR | TITLE: Assessment and Collection of Regulatory Fees for Fiscal Year 2019 (MD Docket No. 19-105).
|  | SUMMARY: The Commission will consider a Notice of Proposed Rulemaking to seek comment on proposed regulatory fees for Fiscal Year 2019.

Federal Communications Commission.
Marlene Dortch,
Secretary.

[FR Doc. 2019-10023 Filed 5-14-19; 8:45 am]

BILLING CODE 6712-01-P